DEPARTMENT OF COMMERCE

Foreign-Trade Zones Board

[B-24-2020]

Foreign-Trade Zone (FTZ) 7—San Juan, Puerto Rico; Authorization of Production Activity; Amgen Manufacturing Limited (Pharmaceuticals), Juncos, Puerto Rico

On April 28, 2020, Amgen Manufacturing Limited submitted a notification of proposed production activity to the FTZ Board for its facility within Subzone 7M, in Juncos, Puerto Rico.

The notification was processed in accordance with the regulations of the FTZ Board (15 CFR part 400), including notice in the Federal Register inviting public comment (85 FR 26923, May 6, 2020). On August 26, 2020, the applicant was notified of the FTZ Board's decision that no further review of the activity is warranted at this time. The production activity described in the notification was authorized, subject to the FTZ Act and the FTZ Board's regulations, including Section 400.14.

Dated: August 26, 2020.
Andrew McGilvray,
Executive Secretary.

[FR Doc. 2020-19179 Filed 8-31-20; 8:45 am]

BILLING CODE 3510-DS-P